DEPARTMENT OF TRANSPORTATION

Federal Aviation Administration

14 CFR Part 39

[Docket No. 2001-NM-120-AD; Amendment 39-13416; AD 2004-01-03]

RIN 2120-AA64

Airworthiness Directives; Airbus Model A319, A320, and A321 Series Airplanes

AGENCY: Federal Aviation Administration, DOT.

ACTION: Final rule.

SUMMARY: This amendment supersedes an existing airworthiness directive (AD), applicable to certain Airbus Model A320 series airplanes, that currently requires an inspection to detect moisture and migrated bushings of the guide fittings of the safety locking pins of the passenger doors, removal of any moisture, application of grease, and reinstallation of any migrated bushing. That AD also requires installation of a greasing nipple on the guide fitting of the locking pin and on three telescopic rods on the passenger doors. This amendment adds a requirement for modification of the upper guide fitting of the locking pin, and expands the applicability in the existing AD. The actions specified by this AD are intended to prevent jamming of the locking pin of the passenger door, which could result in inability to open the passenger door and delay of evacuation in an emergency, resulting in possible injury to passengers or crew. This action is intended to address the identified unsafe condition.

DATES: Effective February 13, 2004.

The incorporation by reference of a certain publication, as listed in the regulations, is approved by the Director of the Federal Register as of February 13, 2004.

The incorporation by reference of certain other publications, as listed in the regulations, was approved previously by the Director of the Federal Register as of February 17, 1998 (63 FR 1905, January 13, 1998).

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION: A proposal to amend part 39 of the Federal Aviation Regulations (14 CFR part 39) by superseding AD 98-01-12, amendment 39-10275 (63 FR 1905, January 13, 1998), which is applicable to certain Airbus Model A320 series airplanes, was published in the Federal Register on November 4, 2003 (68 FR 62405). The action proposed to continue to require an inspection to detect moisture and migrated bushings of the guide fittings of the safety locking pins of the passenger doors, removal of any moisture, application of grease, and reinstallation of any migrated bushing. That action also proposed to continue to require installation of a greasing nipple on the guide fitting of the locking pin and on three telescopic rods on the passenger doors. The new action proposed to add a requirement for modification of the upper guide fitting of the locking pin, and expand the applicability in the existing AD.

Comments

Interested persons have been afforded an opportunity to participate in the making of this amendment. No comments were submitted in response to the proposal or the FAA's determination of the cost to the public.

Conclusion

The FAA has determined that air safety and the public interest require the adoption of the rule as proposed.

Cost Impact

There are approximately 168 airplanes of U.S. registry that will be affected by this AD.

The actions that are currently required by AD 98-01-12 take about 4 work hours per airplane (1 work hour per door) to accomplish, at an average labor rate of $65 per work hour. Based on these figures, the cost impact of the currently required actions is estimated to be $260 per airplane.

The new modification that is required by this AD action will take about 8 work hours per airplane (2 work hours per door) to accomplish, at an average labor rate of $65 per work hour. Required parts costs will be minimal. Based on these figures, the cost impact of the modification required by this AD on U.S. operators is estimated to be $87,360, or $520 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-10275 (63 FR 1905, January 13, 1998), and by adding a new airworthiness directive (AD), amendment 39-13416, to read as follows:

2004-01-03 Airbus: Amendment 39-13416. Docket 2001-NM-120-AD. Supersedes AD 98-01-12, Amendment 39-10275.

Applicability: Model A319, A320, and A321 series airplanes; certificated in any category; except those on which Airbus Modification 27142 has been incorporated during production.

Compliance: Required as indicated, unless accomplished previously.

To prevent jamming of the locking pin of the passenger door, which could result in inability to open the passenger door and delay of evacuation in an emergency, resulting in possible injury to passengers or crew; accomplish the following:

Restatement of Requirements of AD 98-01-12

Inspection/Corrective Action

(a) Prior to the accumulation of 450 hours, time-in-service after one year from the delivery date of the airplane, or within 450 hours, time-in-service after February 17, 1998 (the effective date of AD 98-01-12, amendment 39-10275), whichever occurs later; perform an inspection to detect moisture or migrated bushings of the guide fittings of the upper safety locking pins on each passenger door, in accordance with Airbus Industrie All Operators Telex (AOT) 52-06, dated February 4, 1994.

(1) If any moisture is found in the guide fitting, prior to further flight, remove the moisture, dry the guide fitting, fill it with low temperature grease, and reinstall the guide fitting with bolts, washers, and nuts in accordance with the AOT.

(2) If any migrated bushing is found, prior to further flight, reinstall the bushing using Loctite 672 in accordance with the AOT. If the bushing cannot be reinstalled prior to further flight, the airplane may be operated without the upper locking pin for an additional 50 hours time-in-service or three days after accomplishing the inspection, whichever occurs first, provided that the requirements specified in paragraphs (a)(2)(i), (a)(2)(ii), and (a)(2)(iii) of this AD are accomplished. This compliance time applies to each passenger door.

(i) The connecting rod to the locking shaft shall be removed.

(ii) The guide fitting shall remain installed.

(iii) The cavity in the guide fitting (which results from the removal of the upper locking pin) shall be covered with high speed tape to prevent moisture ingress.

Installation of Greasing Nipple

(b) Within 15 months after February 17, 1998, install a greasing nipple on the guide fitting of the locking pin and on three telescopic rods on the passenger doors in accordance with Airbus Industrie Service Bulletin No. A320-52-1057, dated July 26, 1994.

New Requirements of This AD

Modification

(c) Modify the upper guide fitting of the locking pin in accordance with paragraphs 3.A. through 3.D. of the Accomplishment Instructions of Airbus Service Bulletin A320-52-1105, Revision 02, dated May 21, 2002; at the time specified in paragraph (c)(1) or (c)(2) of this AD, as applicable. Accomplishment of the modification before the effective date of this AD in accordance with Airbus Service Bulletin A320-52-1105, dated September 29, 2000; or Revision 01, dated August 7, 2001; is considered acceptable for compliance with the corresponding action in this paragraph.

(1) For Model A320 and A321 series airplanes on which Airbus Service Bulletin A320-52-1057 has been incorporated in service: Within 1 year after the effective date of this AD.

(2) For Model A319, A320, and A321 series airplanes on which Airbus Modification 24389 was done in production: Within 3 years after the effective date of this AD.

Alternative Methods of Compliance

(d)(1) In accordance with 14 CFR 39.19, the Manager, International Branch, ANM-116, FAA, Transport Airplane Directorate, is authorized to approve alternative methods of compliance for this AD.

(2) Alternative methods of compliance, approved previously per AD 98-01-12, amendment 39-10275, are approved as alternative methods of compliance with paragraphs (a) and (b) of this AD, as applicable.

Incorporation by Reference

(e) The actions shall be done in accordance with Airbus Industrie All Operators Telex (AOT) 52-06, dated February 4, 1994; Airbus Industrie Service Bulletin No. A320-52-1057, dated July 26, 1994; and Airbus Service Bulletin A320-52-1105, Revision 02, dated May 21, 2002; as applicable.

(1) The incorporation by reference of Airbus Service Bulletin A320-52-1105, Revision 02, dated May 21, 2002, is approved by the Director of the Federal Register in accordance with 5 U.S.C. 552(a) and 1 CFR part 51.

(2) The incorporation by reference of Airbus Industrie All Operators Telex (AOT) 52-06, dated February 4, 1994; and Airbus Industrie Service Bulletin No. A320-52-1057, dated July 26, 1994; was approved previously by the Director of the Federal Register as of February 17, 1998 (63 FR 1905, January 13, 1998).

(3) Copies may be obtained from Airbus, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 1: The subject of this AD is addressed in French airworthiness directive 2001-100(B), dated March 21, 2001.

Effective Date

(f) This amendment becomes effective on February 13, 2004.

Issued in Renton, Washington, on December 29, 2003.
Ali Bahrami,
Acting Manager, Transport Airplane Directorate, Aircraft Certification Service.

[FR Doc. 04-123 Filed 1-8-04; 8:45 am]

BILLING CODE 4910-13-P